DEPARTMENT OF COMMERCE

Foreign-Trade Zones Board

[Docket 45-2008]

Foreign-Trade Zone 72 Indianapolis, IN, Application for Subzone Status, GETRAG Transmission Manufacturing LLC (Automotive Transmissions)

An application has been submitted to the Foreign-Trade Zones Board (the Board) by the Indianapolis Airport Authority, grantee of FTZ 72, requesting special-purpose subzone status for the automotive transmission manufacturing plant of GETRAG Transmission Manufacturing LLC (GETRAG), located in Tipton, Indiana. The application was submitted pursuant to the provisions of the Foreign-Trade Zones Act, as amended (19 U.S.C. 81a-81u), and the regulations of the Board (15 CFR part 400). It was formally filed on August 8, 2008.

The GETRAG facility (up to 1,170 employees/103 acres/891,000 sq.ft.) is located at 5880 State Road 28 in Tipton (Tipton County), Indiana, about 50 miles north of Indianapolis. The plant, currently under construction, will be used to produce dual-clutch transmissions for automobiles and light trucks (up to 700,000 units annually) for export and the domestic market. The manufacturing process at the facility involves machining, assembly, welding, and testing using domestic and foreign-origin inputs. Components that would be purchased from abroad (representing about 52% of total, by value) to be used in manufacturing include: bearings, differentials, gear sets, clutch assemblies and supports, electric control modules, oil pumps and gears, solenoids, fasteners, lever assemblies, rod assemblies, pawls, retainers, springs, retainers, bushings, articles of plastics, seals, gear oil, grease, and adhesives (duty rate range: free 5.8%, 84¢/bbl.).

FTZ procedures would exempt GETRAG from customs duty payments on the foreign components used in export transmission production. On domestic shipments transferred in-bond to U.S. automobile assembly plants with subzone status, no duties would be paid on the foreign transmission components used in automobile and light truck production until the finished motor vehicles are entered for consumption, at which time the finished automobile duty rate (2.5%) could be applied to the foreign-origin components noted above. For the transmissions withdrawn directly by GETRAG for customs entry, the finished transmission rate (2.5%) could be applied to the foreign inputs. Customs duties also could possibly be deferred or reduced on foreign status production equipment. The application indicates that the savings from FTZ procedures would help improve the facility's international competitiveness. In accordance with the Board's regulations, Pierre Duy of the FTZ Staff is designated examiner to investigate the application and report to the Board.

Public comment is invited from interested parties. Submissions (original and 3 copies) shall be addressed to the Board's Executive Secretary at the address below. The closing period for their receipt is October 17, 2008. Rebuttal comments in response to material submitted during the foregoing period may be submitted during the subsequent 15-day period to November 3, 2008.

A copy of the application and accompanying exhibits will be available for public inspection at each of the following locations: U.S. Department of Commerce Export Assistance Center, Suite 106, 11405 N. Pennsylvania Street, Carmel, Indiana 46032; and, Office of the Executive Secretary, Foreign-Trade Zones Board, Room 2111, U.S. Department of Commerce, 1401 Constitution Avenue, NW, Washington, DC 20230-0002. For further information, contact Pierre Duy at pierre_duy@ita.doc.gov, or (202) 482-1378.

Dated: August 8, 2008.
Andrew McGilvray,
Executive Secretary.

[FR Doc. E8-19100 Filed 8-15-08; 8:45 am]

BILLING CODE 3510-DS-S